DEPARTMENT OF AGRICULTURE

Forest Service

Ashley National Forest Land and Resource Management Plan Revision; Ashley National Forest in Uintah, Duchesne, UT, Wasatch, Summit and Daggett Counties, UT, and Sweetwater County, WY

AGENCY: Forest Service, USDA.

ACTION: Notice of initiation to revise the Ashley National Forest Land and Resource Management Plan.

SUMMARY: The USDA Forest Service, Ashley National Forest is initiating a process to revise it's Land and Resource Management Plan (Forest Plan) in accordance with the 2005 Planning Rule at 36 CFR part 219 (FR Vol. 70, No. 3./January 5, 205, 1023).

DATES: Public comments related to the need to revise the current Forest Plan are invited at any time during the revision process. We are currently seeking input on the need for change and the scope of the revision effort. This input would be most helpful to us if received prior to March 1, 2006.

ADDRESSES: Please send comments to Laura Jo West, Planning Team Leader at Ashley National Forest, 355 N. Vernal Ave., Vernal, Utah 84078 or via e-mail ljwest@fs.fed.us.

FOR FURTHER INFORMATION CONTACT: Laura Jo West, Planning Team Leader at Ashley National Forest, 355 N. Vernal Ave., Vernal, Utah 84078; phone (435) 781-5167; fax (435) 781-51442; or e-mail ljwest@fs.fed.us.

SUPPLEMENTARY INFORMATION: The Ashley National Forest's current forest Plan was approved in October 1986. Since that time, conditions on the Forest and public uses of the Forest have changed. In addition, the Forest Service has issued new regulations implementing the National Forest Management Act. The new 2005 Planning Rule can be found at 36 CFR 219 (FR Vol. 70, No. 3./January 5, 2005, 1023). Preliminary needs for change in the current plan include (1) The need to articulate desired conditions for landscapes at a meaningful scale, (2) the need to provide a context for managing for increasing dispersed recreation use of the Forest, particularly motorized travel, (3) the need to purposefully manage for healthy watersheds and riparian systems, (4) the need to recognize the role of fire and fuels management on the Forest. The Forest is also proposing to limit the scope of Forest Plan revision to exclude changes in management direction for the congressionally designated areas of the Forest, namely the High Uintas Wilderness and the Flaming Gorge National Recreation Area. Limiting the scope in this manner does not imply that improvement to management direction in these areas is not warranted or needed. The intent of this limitation is to focus the revision process on those areas of the Forest where clearer management direction is most needed at this time. Workshops inviting participation in discussions of the scope of Forest Plan revision are tentatively scheduled for late January 2006. Information on workshop schedules as well as other information will be posted to the Forest Web site as it becomes available. Interested persons may also contact the Planning Team leader for more information about schedules and public involvement opportunities.

Responsible Official: Kevin B. Elliott, Forest Supervisor, Ashley National Forest, 355 N. Vernal Ave., Vernal, Utah 84078.

Public Involvement: The public is invited to participate in the development of the revised plan and will be invited to provide comment at several points during the revision process. Opportunities for public involvement will include open houses and workshops, public meetings, document review opportunities, and others. These will be posted on the Forest's Web site at http://www.fs.fed.us/r4/ashley and distributed via the Forest Plan revision mailing list. Click on the link to Forest Plan Revision that appears on the homepage. For more information about public involvement opportunities, contact Laura Jo West, Planning Team Leader at (435) 781-5167 or e-mail ljwest@fs.fed.us. To have your name added to our Forest Plan revision mailing list contact Rick Peaveler at (435) 781-5112, or e-mail rpeaveler@fs.fed.us.

Dated: October 27, 2005.
Kevin B. Elliott,
Forest Supervisor.

[FR Doc. 05-21977 Filed 11-3-05; 8:45am]

BILLING CODE 3410-11-M